ENVIRONMENTAL PROTECTION AGENCY

[EPA-R05-OAR-2008-0682; FRL-9087-6]

Adequacy Status of the Washington County, OH and the Ohio Portion of the Huntington/Ashland KY/WV/OH Area Submitted Annual Fine Particulate Matter Attainment Demonstration for Transportation Conformity Purposes

AGENCY: Environmental Protection Agency (EPA).

ACTION: Notice of adequacy.

SUMMARY: In this notice, EPA is notifying the public that we have made insignificance findings through the transportation conformity adequacy process for directly emitted fine particulate matter (PM2.5) and oxides of nitrogen (NOX) in Washington County, Ohio (part of the Parkersburg/Marietta annual PM2.5 nonattainment area) and the Ohio portion of the Huntington/Ashland annual PM2.5 nonattainment area. Ohio submitted the attainment demonstration State Implementation Plan (SIP) for annual PM2.5 initially on July 16, 2008, and subsequently submitted the public hearing results on December 5, 2008. As a result of our finding, Washington County, Ohio and the Ohio portion of the Huntington/Ashland area are no longer required to perform a regional emissions analysis for either directly emitted PM2.5 or NOX as part of future PM2.5 conformity determinations for the 1997 annual PM2.5 air quality standard.

DATES: This finding is effective December 22, 2009.

FOR FURTHER INFORMATION CONTACT: Patricia Morris, Environmental Scientist, Criteria Pollutant Section (AR-18J), Air Programs Branch, Air and Radiation Division, United States Environmental Protection Agency, Region 5, 77 West Jackson Boulevard, Chicago, Illinois 60604, (312) 353-8656, morris.patricia@epa.gov.

SUPPLEMENTARY INFORMATION: Throughout this document, whenever “we”, “us” or “our” is used, we mean EPA.

Background

Today's notice is simply an announcement of a finding that we have already made. On October 23, 2009, EPA Region 5 sent a letter to the Ohio Environmental Protection Agency stating that we have made insignificance findings for PM2.5 and NOX as the state requested in its PM2.5 attainment demonstration submittal, a finding we made through the transportation conformity adequacy process. Receipt of the submittal was announced on EPA's transportation conformity Web site, and no comments were submitted. The finding is available at EPA's conformity Web site: http://www.epa.gov/otaq/stateresources/transconf/adequacy.htm.

Transportation conformity is required by section 176(c) of the Clean Air Act. EPA's conformity rule requires that transportation plans, programs, and projects conform to state air quality implementation plans and establishes the criteria and procedures for determining whether or not they do conform. Conformity to a SIP means that transportation activities will not produce new air quality violations, worsen existing violations, or delay timely attainment of the national ambient air quality standards.

The criteria by which we determine whether a SIP's motor vehicle emission budgets are adequate for transportation conformity purposes are outlined in 40 CFR 93.118(e)(4). The Transportation Conformity Rule in 40 CFR 93.109(k) states that a regional emissions analysis is no longer necessary if EPA finds through the adequacy or approval process that a SIP demonstrates that regional motor vehicle emissions are an insignificant contributor to the air quality problem for that pollutant/precursor. A finding of insignificance does not change the requirement for a regional analysis for other pollutants and precursors and does not change the requirement for hot spot analysis. We have described our process for determining the adequacy of submitted SIP budgets in our July 1, 2004, preamble starting at 69 FR 40038, and we used the information in these resources while making our adequacy determination. Please note that an adequacy review is separate from EPA's completeness review, and it also should not be used to prejudge EPA's ultimate approval of the SIP. Even if we find a budget adequate, the SIP could later be disapproved.

The finding and the response to comments are available at EPA's transportation conformity Web site: http://www.epa.gov/otaq/stateresources/transconf/adequacy.htm.

Authority: 42 U.S.C. 7401-7671q.

Dated: November 17, 2009.
Walter W. Kovalick Jr.,
Acting Regional Administrator, Region 5.

[FR Doc. E9-29075 Filed 12-4-09; 8:45 am]

BILLING CODE 6560-50-P